DEPARTMENT OF HEALTH AND HUMAN SERVICES

[Document Identifier: OS-0990-New]

Agency Information Collection Request; 60-Day Public Comment Request

AGENCY: Office of the Secretary.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Written comments and recommendations for the proposed information collections must be directed to the OS Paperwork Clearance Officer at the above e-mail address within 60 days.

Proposed Project: Evaluation of Office for Human Research Protections Outreach Pamphlet on Public Participation in Research—Office for Human Research.

Abstract: This evaluation project addresses the Office for Human Research Protection's need for the evaluation of an informational outreach pamphlet, “Becoming a Research Participant: It's Your Decision,” to educate the general public about factors to consider in their choice to participate or not participate in research. The evaluation is particularly important for the development and efficient distribution of future educational material. Participants in this survey will be members of the research community, broadly defined, including members of the human research protections community, who received the pamphlet for distribution by their organizations. The survey will collect a small amount of descriptive information regarding the research setting, how the institution utilized the pamphlet, the impact of the pamphlet's appearance and content, and to a brief degree, if and how the pamphlet had an effect on research participation.

Estimated Annualized Burden Table
Type of respondent | Number of respondents | Number of responses per respondent | Average burden hours per response | Total burden hours
Member of Research Community | 325 | 1 | 20/60 | 108

Seleda Perryman,
Office of the Secretary, Paperwork Reduction Act Reports Clearance Officer.

[FR Doc. 2010-6903 Filed 3-26-10; 8:45 am]

BILLING CODE 4150-36-P